DEPARTMENT OF COMMERCE

National Oceanic and Atmospheric Administration

50 CFR Part 679

[Docket No. 071106673-8011-02]

RIN 0648-XJ94

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from catcher vessels greater than or equal to 60 feet (≥ 18.3 meters (m)) length overall (LOA) using hook-and-line gear to the B season allocation for vessels using jig gear in the Bering Sea and Aleutian Islands management area (BSAI). This action is necessary to allow the 2008 total allowable catch (TAC) of Pacific cod to be harvested.

DATES: Effective August 19, 2008, through 2400 hrs, Alaska local time (A.l.t.), December 31, 2008.

FOR FURTHER INFORMATION CONTACT: Mary Furuness, 907-586-7228.

SUPPLEMENTARY INFORMATION: NMFS manages the groundfish fishery in the BSAI according to the Fishery Management Plan for Groundfish of the Bering Sea and Aleutian Islands Management Area (FMP) prepared by the North Pacific Fishery Management Council under authority of the Magnuson-Stevens Fishery Conservation and Management Act. Regulations governing fishing by U.S. vessels in accordance with the FMP appear at subpart H of 50 CFR part 600 and 50 CFR part 679.

The 2008 Pacific cod TAC specified for catcher vessels greater than or equal to 60 feet (≥ 18.3 m) LOA using hook-and-line gear in the BSAI is 303 metric tons (mt) as established by the final 2008 and 2009 harvest specifications for groundfish in the BSAI (73 FR 10160, February 26, 2008).

The Acting Administrator, Alaska Region, NMFS, has determined that catcher vessels greater than or equal to 60 feet (≥ 18.3 m) length LOA using hook-and-line gear will not be able to harvest 150 mt of the 2008 Pacific cod TAC allocated to those vessels under § 679.20(a)(7)(ii)(A)(3). Therefore, in accordance with § 679.20(a)(7)(iii)(A), NMFS allocates 150 mt of Pacific cod from the catcher vessels greater than or equal to 60 feet (≥ 18.3 m) length LOA using hook-and-line gear allocation to the B season allocation for vessels using jig gear.

The harvest specifications for Pacific cod included in the harvest specifications for groundfish in the BSAI (73 FR 10160, February 26, 2008) are revised as follows: 177 mt to the B season allocation for vessels using jig gear and 153 mt to catcher vessels ≥ 60 feet (18.3 m) LOA using hook-and-line gear.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would delay the reallocation of Pacific cod from catcher vessels ≥ 60 feet (18.3 m) LOA using hook-and-line gear to the B season allocation for vessels using jig gear. Since the fishery is currently open, it is important to immediately inform the industry as to the revised allocations. Immediate notification is necessary to allow for the orderly conduct and efficient operation of this fishery, to allow the industry to plan for the fishing season, and to avoid potential disruption to the fishing fleet as well as processors. NMFS was unable to publish a notice providing time for public comment because the most recent, relevant data only became available as of August 18, 2008.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: August 19, 2008.
Emily H. Menashes,
Acting Director, Office of Sustainable Fisheries, National Marine Fisheries Service.

[FR Doc. E8-19578 Filed 8-19-08; 4:15 pm]

BILLING CODE 3510-22-S